SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: June 1-30, 2022.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22 (e) and 18 CFR 806.22 (f) for the time period specified above:

Water Source Approval—Issued Under 18 CFR 806.22(f)

1. Chesapeake Appalachia, L.L.C.; Pad ID: Dunham; ABR-20100418.R2; Albany Township, Bradford County, Pa.; Consumptive Use of Up to 7.5000 mgd; Approval Date: June 6, 2022.

2. Chesapeake Appalachia, L.L.C.; Pad ID: Hayward New; ABR-20100535.R2; Rome Township, Bradford County, Pa.; Consumptive Use of Up to 7.5000 mgd; Approval Date: June 6, 2022.

3. Chesapeake Appalachia, L.L.C.; Pad ID: Matt Will Farms; ABR-20100544.R2; Troy Township, Bradford County, Pa.; Consumptive Use of Up to 7.5000 mgd; Approval Date: June 6, 2022.

Seneca Resources Company, LLC; Pad ID: Breon 492; ABR-20100553.R2; Sullivan Township, Tioga County, Pa.; Consumptive Use of Up to 4.00000 mgd; Approval Date: June 20, 2022.

4. SWN Production Company, LLC; Pad ID: Marcucci_Jones Pad; ABR-201205017.R2; Stevens Township, Bradford County, Pa.; Consumptive Use of Up to 4.9990 mgd; Approval Date: June 20, 2022.

5. SWN Production Company, LLC; Pad ID: Humbert III Pad (RU-9); ABR-201205018.R2; New Milford Township, Susquehanna County, Pa.; Consumptive Use of Up to 4.9990 mgd; Approval Date: June 20, 2022.

6. SWN Production Company, LLC; Pad ID: Scarlet Oaks Pad (RU-38); ABR-201205020.R2; New Milford Township, Susquehanna County, Pa.; Consumptive Use of Up to 4.9990 mgd; Approval Date: June 20, 2022.

7. SWN Production Company, LLC; Pad ID: Moore Well Pad; ABR-201205021.R2; New Milford Township, Susquehanna County, Pa.; Consumptive Use of Up to 4.9990 mgd; Approval Date: June 20, 2022.

8. SWN Production Company, LLC; Pad ID: Wheeler Well Pad; ABR-201205022.R2; Silver Lake Township, Susquehanna County, Pa.; Consumptive Use of Up to 4.9990 mgd; Approval Date: June 20, 2022.

9. SWN Production Company, LLC; Pad ID: O'Reilly Well Pad; ABR-201205023.R2; Forest Lake Township, Susquehanna County, Pa.; Consumptive Use of Up to 4.9990 mgd; Approval Date: June 20, 2022.

10. Repsol Oil & Gas USA, LLC; Pad ID: FERGUSON (01 023) R; ABR-20100453.R2; Granville Township, Bradford County, Pa.; Consumptive Use of Up to 6.0000 mgd; Approval Date: June 20, 2022.

11. Coterra Energy Inc.; Pad ID: WarrinerS P1; ABR-201505003.R1; Bridgewater Township, Susquehanna County, Pa.; Consumptive Use of Up to 5.0000 mgd; Approval Date: June 20, 2022.

12. Coterra Energy Inc.; Pad ID: Petty P1; ABR-20100550.R2; Dimock Township, Susquehanna County, Pa.; Consumptive Use of Up to 5.0000 mgd; Approval Date: June 20, 2022

13. EXCO Resources (PA), LLC; Pad ID: Taylor (Pad 33); ABR-20100611.R2; Burnside Township, Centre County, Pa.; Consumptive Use of Up to 8.0000 mgd; Approval Date: June 20, 2022.

14. Coterra Energy Inc.; Pad ID: Lauffler P1; ABR-20100608.R2; Springville Township, Susquehanna County, Pa.; Consumptive Use of Up to 5.0000 mgd; Approval Date: June 20, 2022.

15. Coterra Energy Inc.; Pad ID: OakleyJ P1; ABR-20100603.R2; Springville Township, Susquehanna County, Pa.; Consumptive Use of Up to 5.0000 mgd; Approval Date: June 20, 2022.

16. Coterra Energy Inc.; Pad ID: Post P1; ABR-20100605.R2; Brooklyn Township, Susquehanna County, Pa.; Consumptive Use of Up to 5.0000 mgd; Approval Date: June 20, 2022.

17. Coterra Energy Inc.; Pad ID: StockholmK P3; ABR-20100609.R2; Rush Township, Susquehanna County, Pa.; Consumptive Use of Up to 5.0000 mgd; Approval Date: June 20, 2022.

18. Seneca Resources Company, LLC; Pad ID: Clark 486; ABR-20100429.R2; Sullivan Township, Tioga County, Pa.; Consumptive Use of Up to 4.0000 mgd; Approval Date: June 20, 2022.

19. Seneca Resources Company, LLC; Pad ID: Young 431; ABR-20100561.R2; Shippen Township, Tioga County, Pa.; Consumptive Use of Up to 4.0000 mgd; Approval Date: June 20, 2022.

20. Chesapeake Appalachia, L.L.C.; Pad ID: Duane; ABR-20100601.R2; Leroy Township, Bradford County, Pa.; Consumptive Use of Up to 7.5000 mgd; Approval Date: June 20, 2022.

21. Seneca Resources Company, LLC; Pad ID: Mitchell 456; ABR-20100615.R2; Jackson Township, Tioga County, Pa.; Consumptive Use of Up to 4.0000 mgd; Approval Date: June 28, 2022.

22. Seneca Resources Company, LLC; Pad ID: Hege 436; ABR-20100622.R2; Delmar Township, Tioga County, Pa.; Consumptive Use of Up to 4.0000 mgd; Approval Date: June 28, 2022.

23. Range Resources—Appalachia, LLC; Pad ID: Mohawk Lodge Unit; ABR-20100619.R2; Gallagher Township, Clinton County, Pa.; Consumptive Use of Up to 4.0000 mgd; Approval Date: June 28, 2022.

24. Chesapeake Appalachia, L.L.C.; Pad ID: Cannella; ABR-20100637.R2; Auburn Township, Susquehanna County, Pa.; Consumptive Use of Up to 7.5000 mgd; Approval Date: June 28, 2022.

25. Seneca Resources Company, LLC; Pad ID: Valldes Pad C; ABR-20100620.R2; Covington Township, Tioga County, Pa.; Consumptive Use of Up to 4.0000 mgd; Approval Date: June 28, 2022.

26. Seneca Resources Company, LLC; Pad ID: Wivell Pad I; ABR-20100607.R2; Covington Township, Tioga County, Pa.; Consumptive Use of Up to 4.0000 mgd; Approval Date: June 28, 2022.

27. Seneca Resources Company, LLC.; Pad ID: COP Pad B; ABR-20100645.R2; Lawrence Township, Clearfield County, Pa.; Consumptive Use of Up to 4.0000 mgd; Approval Date: June 28, 2022.

28. Repsol Oil & Gas USA, LLC; Pad ID: HARNISH (01 032) G; ABR-20100647.R2; Canton Township, Bradford County, Pa.; Consumptive Use of Up to 6.0000 mgd; Approval Date: June 28, 2022.

29. Coterra Energy Inc.; Pad ID: FergusonA P1; ABR-201506003.R1; Harford Township, Susquehanna County, Pa.; Consumptive Use of Up to 5.0000 mgd; Approval Date: June 28, 2022.

30. Seneca Resources Company, LLC; Pad ID: Erickson 423; ABR-20100618.R2; Delmar Township, Tioga County, Pa.; Consumptive Use of Up to 4.0000 mgd; Approval Date: June 29, 2022.

31. Chesapeake Appalachia, L.L.C.; Pad ID: Them; ABR-20100642.R2; Wysox Township, Bradford County, Pa.; Consumptive Use of Up to 7.5000 mgd; Approval Date: June 29, 2022.

32. Chesapeake Appalachia, L.L.C.; Pad ID: Linski; ABR-20100662.R2; Tuscarora Township, Bradford County, Pa.; Consumptive Use of Up to 7.5000 mgd; Approval Date: June 30, 2022.

33. Seneca Resources Company, LLC; Pad ID: Shelman 291; ABR-20100659.R2; Charleston Township, Tioga County, Pa.; Consumptive Use of Up to 4.0000 mgd; Approval Date: June 29, 2022.

34. Inflection Energy (PA), LLC; Pad ID: Eichenlaub B Pad; ABR-201206013.R2; Upper Fairfield Township, Lycoming County, Pa.; Consumptive Use of Up to 4.0000 mgd; Approval Date: June 30, 2022.

35. Campbell Oil & Gas, Inc.; Pad ID: Mid Penn Unit B Well Pad; ABR-201206017.R2; Bigler Township, Clearfield County, Pa.; Consumptive Use of Up to 2.0000 mgd; Approval Date: June 30, 2022.

36. Range Resources—Appalachia, LLC; Pad ID: Ogontz Fishing Club Unit #12H-#17H; ABR-20100648.R2; Cummings Township, Lycoming County, Pa.; Consumptive Use of Up to 4.0000 mgd; Approval Date: June 30, 2022.

Authority: Public Law 91-575, 84 Stat. 1509 et seq., 18 CFR parts 806 and 808.

Dated: July 7, 2022.
Jason E. Oyler,
General Counsel and Secretary to the Commission.

[FR Doc. 2022-14806 Filed 7-11-22; 8:45 am]

BILLING CODE 7040-01-P